DEPARTMENT OF THE INTERIOR

Office of the Secretary

[156D0102DM DS62200000 DLSN00000.000000 DX.62201]

Proposed Renewal of Information Collection: OMB Control Number 1090-0009, Donor Certification Form

AGENCY: Office of the Secretary, Office of Financial Management, Department of the Interior.

ACTION: Notice and request for comments.

SUMMARY: In compliance with the Paperwork Reduction Act of 1995, the Office of Financial Management, Office of the Secretary, Department of the Interior has submitted a request for renewal of this information collection to the Office of Management and Budget (OMB), and requests public comments on this submission.

DATES: OMB has up to 60 days to approve or disapprove the information collection request, but may respond after 30 days; therefore, public comments should be submitted to OMB by October 30, 2015, in order to be assured of consideration.

ADDRESSES: Send your written comments by facsimile (202) 395-5806 or email (OIRA_Submission@omb.eop.gov) to the Office of Information and Regulatory Affairs, Office of Management and Budget, Attention: Department of the Interior Desk Officer (1090-0009). Also, please send a copy of your comments to Paul Batlan, Office of Financial Management, 1849 C St. NW., MS 2557 MIB, Washington, DC 20240, or email him at Paul_Batlan@ios.doi.gov. Individuals providing comments should reference the “Donor Certification Form, OMB Control Number 1090-0009”.

FOR FURTHER INFORMATION CONTACT: Requests for additional information or copies of the Information Collection Request or the Donor Certification Form, should be directed to Paul Batlan, Office of Financial Management, 1849 C St. NW., MS 2557 MIB, Washington, DC 20240, or email him at Paul_Batlan@ios.doi.gov. You may also review the information collection request online at http://www.reginfo.gov/public/do/PRAMain.

SUPPLEMENTARY INFORMATION:

I. Abstract

This notice identifies an information collection activity that the Office of Financial Management has submitted to OMB for approval for the Department and its bureaus to continue to collect information from proposed donors relative to their relationship(s) with the Department. The Department and its individual bureaus have gift acceptance authorities. In support of the variety of donation authorities in the Department and increasing numbers of donations, it is the policy of the Department to ask those proposing to donate gifts valued at $25,000 or more to provide information regarding their relationship with the Department. The purpose of this policy is to ensure that the acceptance of a gift does not create legal or ethical issues for the Department, its bureaus, or potential donors. The information will be gathered through the use of a form that collects information relevant to the acceptability of the proposed donation in conformance with the Department's donations policy. The form is completed and certified by the prospective donor then submitted to the Department or its bureau for review. Having the donor certify his or her interactions with the Department gives the staff vetting the proposed donation basic information to be verified, resulting in a more efficient and timely donation review process. The information collected is as follows:

Information collected | Reason for collection
Name, and indication whether executing in individual capacity, or on behalf of an organization | To identify the donor, and whether the donor is acting individually or on behalf of an organization.
Declaration whether the donor is involved with litigation or controversy with the Department | To assist the Department in determining whether there are any issues associated with the proffer of the gift that need to be more closely examined.
Declaration whether the donor is engaged in any financial or business relationship with the Department | To assist the Department in determining whether there are any issues associated with the proffer of the gift that need to be more closely examined.
Declaration whether the donor has been debarred, excluded or disqualified from the non-procurement common rule, or otherwise declared ineligible from doing business with any Federal agency | To assist the Department in determining whether there are any issues associated with the proffer of the gift that need to be more closely examined.
Declaration as to whether the donation is expected to be involved with marketing or advertising | To assist the Department in determining whether there are any issues associated with the proffer of the gift that need to be more closely examined.
Declaration whether the donor is seeking to attach conditions to the donation | To assist the Department in determining whether there are any issues associated with the proffer of the gift that need to be more closely examined.
Declaration whether this proposed donation is or is not part of a series of donations to the Department | To assist the Department in determining the scope and context of the donation, and to assist in determining whether there are any issues associated with the proffer of the gift that need to be more closely examined.
Signature, Printed Name, Date, Organization, Email address, City, State, Zip, and daytime or work phone number | To establish the contact information of the potential donor, and have the certifier sign the certification form.

II. Data

(1) Title: Donor Certification Form.

OMB Control Number: 1090-0009.

Current Expiration Date: September 30, 2015.

Type of Review: Renewal of an existing collection.

Affected Entities: Individuals or households, Businesses, Not-for-profit institutions, Tribal governments.

Estimated annual number of respondents: 250.

Frequency of response: Once per prospective donor per year.

(2) Annual reporting and record keeping burden.

Total Annual Reporting per Respondent: 20 minutes.

Total Annual Burden Hours: 83 hours.

(3) Description of the need and use of the information: This information will provide Department staff with the basis for beginning the evaluation as to whether the Department will accept the proposed donation. The authorized employee will receive the donor certification form in advance of accepting the proposed donation. The employee will then review the totality of circumstances surrounding the proposed donation to determine whether the Department can accept the donation and maintain its integrity, impartiality, and public confidence.

(4) As required under 5 CFR 1320.8(d), a Federal Register notice soliciting comments on the collection of information was published on June 23, 2015 (80 FR 35971). No comments were received. This notice provides the public with an additional 30 days in which to comment on the following information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

It is our policy to make all comments available to the public for review. Before including Personally Identifiable Information (PII), such as your address, phone number, email address, or other personal information in your comment(s), you should be aware that your entire comment (including PII) may be made available to the public at any time. While you may ask us in your comment to withhold PII from public view, we cannot guarantee that we will be able to do so.

If you wish to view any comments received, you may do so by scheduling an appointment via the contact information provided in the ADDRESSES section. A valid picture identification is required for entry into the Department of the Interior, 1849 C Street NW., Washington, DC 20240.

An agency may not conduct or sponsor, and a person is not required to respond to, a collection of information unless it displays a currently valid Office of Management and Budget control number.

Dated: September 25, 2015.
Douglas A. Glenn,
Deputy Chief Financial Officer and Director, Office of Financial Management, Department of the Interior.

[FR Doc. 2015-24745 Filed 9-29-15; 8:45 am]

BILLING CODE 4334-63-P